DEPARTMENT OF HOUSING AND URBAN DEVELOPMENT

[Docket No. FR-4893-N-02]

List of HUD Programs Subject to Title VI of the Civil Rights Act of 1964 and Section 504 of the Rehabilitation Act of 1973

AGENCY: Office of the Assistant Secretary for Fair Housing and Equal Opportunity, HUD.

ACTION: Notice.

SUMMARY: This notice announces a list of HUD programs that are subject to the nondiscrimination provisions in Title VI of the Civil Rights Act of 1964 and Section 504 of the Rehabilitation Act of 1973, as amended.

FOR FURTHER INFORMATION CONTACT: Pamela Walsh, Director, Program Standards Division, Office of Fair Housing and Equal Opportunity, Department of Housing and Urban Development, 451 Seventh Street, SW., Room 5246, Washington, DC 20410-2000, telephone (202) 708-2288, extension 7017 (this is not a toll-free number). Hearing- and speech-impaired individuals may access this telephone number via TTY by calling the toll-free Federal Information Relay Service at (800) 877-8339.

SUPPLEMENTARY INFORMATION: On September 11, 1995, HUD published a final rule (60 FR 47260) that removed from Title 24 of the Code of Federal Regulations any regulation determined unnecessary or obsolete. Among the numerous changes, HUD removed Appendix A from 24 CFR part 1. The regulations in 24 CFR part 1 implement the provisions of Title VI of the Civil Rights Act of 1964 (42 U.S.C. 2000d—2000d-7), which provides that “no person in the United States shall, on the ground of race, color, or national origin, be excluded from participation in, be denied the benefits of, or be subjected to discrimination under any program or activity receiving Federal financial assistance.” Appendix A was a list of HUD's programs that provide federal financial assistance and, therefore, are subject to the nondiscrimination provisions of Title VI and 24 CFR part 1.

In the September 11, 1995, final rule, HUD determined that Appendix A was unnecessary because no regulatory requirement is included in Appendix A and because the information can be provided through other non-rulemaking means. To that end, HUD is publishing, and will publish periodically, a list of HUD programs that are subject to the provisions of Title VI. In November 2004, when HUD most recently republished the List of Federally Assisted Programs, a reference to Section 504 of the Rehabilitation Act of 1973 (23 U.S.C.) was not included. Section 504 prohibits discrimination on the basis of disability and is being included in this new publication because all of the programs listed herein are also subject to Section 504. This notice is provided for information and reference; therefore, applicability of Title VI and Section 504 and the Title VI and Section 504 implementing regulations is not affected by inclusion in or omission from this list.

HUD Programs Subject to Title VI of the Civil Rights Act of 1964 and Section 504 of the Rehabilitation Act of 1973

Community Planning and Development

1. Community Development Block Grant (Entitlement Program), Title I, Housing and Community Development Act of 1974 (42 U.S.C. 5301 et seq.), 24 CFR part 570: Provides annual grants on a formula basis to entitled communities to carry out a wide range of community development activities directed toward neighborhood revitalization, economic development, and improved community facilities and services.

2. Community Development Block Grant (State Program), Title I, Housing and Community Development Act of 1974 (42 U.S.C. 5301 et seq.), 24 CFR part 570: Provides annual grants on a formula basis to carry out a wide range of community development activities directed toward neighborhood revitalization, economic development, and improved community facilities and services to states and units of local government in non-entitled areas.

3. Community Development Block Grant (HUD-Administered Small Cities Program), Title I, Housing and Community Development Act of 1974 (42 U.S.C. 5301 et seq.), 24 CFR part 570: Provides annual grants on a formula basis to carry out a wide range of community development activities directed toward neighborhood revitalization, economic development, and improved community facilities and services. HUD's Honolulu Office administers the funds to non-entitled areas in the State of Hawaii (the islands of Kauai, Maui, and Hawaii).

4. Community Development Block Grant Section 108 Loan Guarantee Program, Section 108 of the Housing and Community Development Act of 1974 (42 U.S.C. 5308), 24 CFR part 570, subpart M: Guarantees loans for state and local governments for economic development, housing rehabilitation, public facilities, and large-scale physical development projects.

5. Community Development Block Grant (Disaster Recovery Assistance), Title I of the Housing and Community Development Act of 1974 (42 U.S.C. 5301 et seq.): Provides flexible grants to help cities, counties, and states recover from Presidentially declared disasters, especially in low- and moderate-income areas.

6. Community Development Block Grant—Section 107 (Insular Areas Grants), Section 107, Housing and Community Development Act of 1974 (42 U.S.C. 5307), 24 CFR part 570: Provides annual grants on a formula basis to carry out a wide range of community development activities directed toward neighborhood revitalization, economic development, and improved community facilities and services. HUD's Honolulu and Caribbean field offices administer the funds to non-entitled areas in the insular areas of American Samoa, Guam, Northern Mariana Islands, and U.S. Virgin Islands.

7. The HOME Investment Partnerships (HOME) and American Dream Down-Payment Initiative (ADI) Programs, Cranston-Gonzalez National Affordable Housing Act, Title II (1990) (42 U.S.C. 12701 et seq.), 24 CFR part 92: Provides grants to state and local governments to implement local housing strategies designed to increase homeownership and affordable housing opportunities for low- and very low-income Americans, including homeownership downpayment, tenant-based assistance, housing rehabilitation, assistance to homebuyers, and new construction of housing.

8. Shelter Plus Care (S+C), Title IV of the McKinney-Vento Homeless Assistance Act, 24 CFR part 582: Provides grants for rental assistance for homeless people with disabilities, primarily those with serious mental illness, chronic problems with alcohol or drugs or both, or acquired immunodeficiency syndrome (AIDS) and related diseases. Each dollar of rental assistance must be matched by funds provided by the grantee, by the sponsor, or through social service agencies. The funds to be used for supportive services may be from federal, state, local, or private sources.

9. Emergency Shelter Grants Program, Title IV, Subtitle B, of the McKinney-Vento Homeless Assistance Act (42 U.S.C. 11371-11378), 24 CFR part 576: Provides grants to states, large cities, urban counties, and U.S. territories for the rehabilitation and conversion of buildings for use as emergency or transitional shelters for homeless persons. Eligible activities also include essential services, operations, prevention activities, and grant administration.

10. Supportive Housing Program, Subtitle C of Title IV of the McKinney-Vento Homeless Assistance Act (42 U.S.C. 11381), 24 CFR part 583: The Supportive Housing Program (SHP) is designed to promote the development of housing and supportive services to assist homeless individuals and families to make a successful transition from homelessness to independent living. SHP provides grants to public entities and nonprofit organizations. The six program components include: Permanent Housing for Homeless Persons with Disabilities—long-term housing and supportive services; Transitional Housing—housing for up to 24 months; Supportive Services Only—addresses the service needs of homeless persons; Safe Havens—supportive housing for hard-to-reach homeless persons with severe mental illness; Homeless Management Information Systems—data-collection software designed to capture client-level information; and Innovative Supportive Housing—enables an applicant to design a program outside the scope of the other components. SHP will fund acquisition, rehabilitation, new construction, leasing, supportive services, operating costs, and administration. Funds may be used to establish new housing or service facilities, expand existing facilities, add services, or bring existing facilities up to code. Funds are also available to renew existing SHP projects.

11. Section 8 Moderate Rehabilitation Single Room Occupancy (SRO) Program, Title IV, subtitle E, McKinney-Vento Homeless Assistance Act (42 U.S.C. 11401), 24 CFR part 882, subpart H: Assists very low-income, single, homeless individuals in obtaining decent, safe, and sanitary housing in privately owned rehabilitated buildings through Section 8 rental assistance payments to participating landlords.

12. Brownfields Economic Development Initiative (BEDI), Section 108(q) of the Housing and Community Development Act of 1974 (42 U.S.C. 5308(q)): Provides competitive economic development grants to CDBG recipients for enhancing either the security of guaranteed loans or the viability of projects financed under Section 108. Grants are used to redevelop industrial or commercial sites known as brownfields due to the presence or potential presence of environmental contamination.

13. Economic Development Initiative (EDI) Grants, Section 108(q) of the Housing and Community Development Act of 1974 (42 U.S.C. 5308(q)): Provides economic development grants to CDBG recipients for the purpose of enhancing either the security of Section 108 guaranteed loans or the viability of projects financed by those loans. EDI enables localities to carry out eligible economic development activities, especially for low- and moderate-income persons, and reduce the risk of potential defaults on Section 108 loan guarantee-assisted projects.

14. Round II Urban Empowerment Zones: Provides grants for economic development activities in economically disadvantaged areas.

15. Youthbuild, Subtitle D of Title IV of the Cranston-Gonzalez National Affordable Housing Act (42 U.S.C. 12899 et seq.), 24 CFR part 585: Provides planning and implementation grants to public and private entities to assist economically disadvantaged young adults in obtaining education, employment skills, and meaningful on-site experience in constructing affordable housing for homeless and low- and very low-income persons.

16. Rural Housing and Economic Development, Annual HUD Appropriations Act: Provides grants to meet rural communities' economic and housing needs.

17. Self-Help Homeownership Opportunity Program (SHOP), Section 11 of the Housing Opportunity Program Extension Act of 1996 (42 U.S.C. 12805 note): Provides competitive grants to national and regional organizations and consortia that provide or facilitate self-help housing opportunities. Under the program, homebuyers and volunteers contribute a significant amount of sweat equity toward home construction.

18. Capacity Building for Community Development, Section 4 of the HUD Demonstration Act of 1993 (Pub. L. 103-120; 42 U.S.C. 9816 note, as amended by Section 10004 of Pub. L. 105-118): Provides grants to develop the capacity and ability of community development corporations and community housing development organizations to undertake community development and affordable housing projects and programs.

19. Housing Opportunities for Persons With AIDS (HOPWA), The AIDS Housing Opportunity Act (42 U.S.C. 12901 et seq.), Subtitle D of Title VIII of the Cranston-Gonzalez National Affordable Housing Act, 24 CFR part 574: Provides grants to eligible states and cities to provide housing assistance and related supportive services to meet the needs of low-income persons with HIV/AIDS or related diseases and their families.

20. Neighborhood Initiatives Program, Annual HUD Appropriations Act: Provides grants for neighborhood initiatives that improve the conditions of distressed and blighted areas and neighborhoods; to stimulate investment, economic diversification, and community revitalization in areas with declining population or a stagnating or declining economic base; or to determine whether housing benefits can be integrated more effectively with welfare reform initiatives.

21. Technical Assistance Programs—CDBG, HOME, CHDO (HOME), McKinney-Vento Homeless Assistance, HOPWA, and Youthbuild: Provide grants for technical assistance, for six separate programs: (1) CDBG; (2) HOME Investment Partnerships (HOME); (3) HOME Investment Partnerships for Community Housing Development Organizations (CHDO); (4) McKinney-Vento Homeless Assistance; (5) HOPWA; and (6) Youthbuild.

Single Family Housing Programs

22. Single Family Property Disposition (Section 204(g)), Section 204(g) of the National Housing Act (12 U.S.C. 1710(g)), 24 CFR part 291: Disposes of one-to four-family FHA properties, either through a competitive, sealed-bid process or direct sale. The program is considered federal financial assistance when such sales are to nonprofit organizations, states, or local governments and are discounted below fair market value.

23. Counseling for Homebuyers, Homeowners, and Tenants (Section 106), Section 106, Housing and Urban Development Act of 1968 (12 U.S.C. 1701x): Awards housing counseling grants on a competitive basis to approved counseling agencies.

Multifamily Housing Programs

24. Supportive Housing for the Elderly (Section 202), Section 202, Housing Act of 1959 (12 U.S.C. 1701q), as amended by Section 801 of the Cranston-Gonzalez National Affordable Housing Act, 24 CFR part 891: Provides interest-free capital advances to eligible private, nonprofit organizations to finance the development of rental housing with supportive services for the elderly. In addition, project rental assistance contract (PRAC) funds are used to cover the difference between the tenants' contributions toward rent and the HUD-approved expense to operate the project. PRAC funds may also be used to provide supportive services and to hire a service coordinator in projects serving frail elderly residents.

25. Assisted Living Conversion Program (ALCP), Section 202(b), Housing Act of 1959 (12 U.S.C. 1701q): Provides grants to private, nonprofit owners of eligible developments to convert some or all of the dwelling units in the development into an assisted living facility for the frail elderly.

26. Multifamily Housing Service Coordinators, Section 808, Cranston-Gonzalez National Affordable Housing Act (42 U.S.C. 8012), as amended by the Housing and Community Development Act of 1992 (Pub. L. 102-550) and the American Homeownership and Economic Opportunity Act of 2000 (Pub. L. 106-569): Provides funding for service coordinators that assist elderly individuals and persons with disabilities who live in federally assisted multifamily housing to obtain needed supportive services from community agencies.

27. Supportive Housing for Persons with Disabilities (Section 811), Section 811, Cranston-Gonzalez National Affordable Housing Act, 24 CFR part 891: Provides interest-free capital advances to eligible nonprofit sponsors to finance the development of rental housing offering supportive services for persons with disabilities. PRAC funds are used to cover the difference between the tenants' contributions toward rent and the HUD-approved cost to operate the project.

28. Self-Help Housing Property Disposition, Public Law 105-50; approved October 6, 1997: Makes surplus federal properties available through sale, at less than fair market value, to states, their subdivisions and instrumentalities, and nonprofit organizations for self-help housing for low-income persons. Residents of the property make a substantial contribution of labor toward the construction, rehabilitation, or refurbishment of the property.

29. Mark-to-Market: Outreach and Training Assistance, Multifamily Assistance and Housing Reform and Affordability Act of 1997 (42 U.S.C. 1437f note), 24 CFR parts 401 and 402: Provides funding for technical assistance for tenant groups in properties with project-based rental assistance contracts that are nearing expiration and properties with HUD-insured mortgages in which the property owners have notified the property's tenants of the owners intention to prepay the mortgage. The funding supports outreach, organizing, and training activities for tenants in units receiving HUD assistance.

30. Renewal of Section 8 Project-Based Rental Assistance: Assists low- and very low-income families to obtain decent, safe, and sanitary housing in private accommodations. Rental assistance was originally used in conjunction with both existing properties and new construction (Section 8 New Construction/Substantial Rehabilitation, and Loan Management and Property Disposition Set Aside programs). Funding no longer is available for new commitments beyond renewing expiring contracts on units already receiving project-based Section 8 rental assistance.

Public and Indian Housing

31. Housing Choice Voucher Program, Section 8 of the United States Housing Act of 1937 (42 U.S.C. 1437f), Section 8(o) for vouchers (tenant-based), Section 8(t) for enhanced vouchers, and 24 CFR part 5 (certain cross-cutting requirements); 24 CFR part 982, Tenant-based Housing Choice Voucher Program; 24 CFR part 983, Project-Based Voucher Program; 24 CFR part 984, Section 8 Family Self-Sufficiency Program; and 24 CFR part 985, Section 8 Management Assessment Program (SEMAP): Provides tenant-based housing assistance subsidies for units that are chosen by the tenant in the private market.

32. Mainstream Program. Consolidated Appropriations Act, 2004 (Pub. L. 108-199, approved January 23, 2004): Provides tenant-based housing assistance for persons with disabilities living in units chosen by the tenant in the private market.

33. Housing Voucher Homeownership Assistance, Section 8(y) of the United States Housing Act of 1937, Section 302 of the American Homeownership and Economic Opportunity Act of 2000 (Pub. L. 106-569), and 24 CFR part 982, subpart M: Provides public housing agencies (PHAs) the option of providing monthly tenant-based assistance to voucher participants who are purchasing homes.

34. Project-Based Voucher Program, Section 8(o)(13) of the United States Housing Act of 1937 (42 U.S.C. 1473f(o)(13)), as amended by Section 232 of the Fiscal Year 2001 appropriations act (Pub. L. 106-377, approved October 27, 2000), 24 CFR part 983: Provides rental assistance to eligible families that reside in housing developments or units.

35. Public Housing Operating Fund, Section 9(e) of the United States Housing Act of 1937 (42 U.S.C. 1437g(d)), 24 CFR part 990: Provides an annual subsidy to PHAs for operations and management.

36. Public Housing Capital Fund, Section 9 of the United States Housing Act of 1937 (42 U.S.C. 1437g(d)), 24 CFR parts 905 and 968: Provides capital and management funding for PHAs.

37. Public Housing Neighborhood Networks (NN) Program, Section 9(d)(1)(E) of the U.S. Housing Act of 1937 (42 U.S.C. 1437g(d)(1)(E)) and Section 9(e)(1)(K) of the U.S. Housing Act of 1937 (42 U.S.C. 1437g(e)(1)(K)): Provides grants to PHAs for computer and Internet access, and job training to public housing residents.

38. Public Housing/Section 8 Moving to Work, Section 204 of the Fiscal Year 1996 Appropriations Act (Pub. L. 104-134), and Section 599H(e) of the Quality Housing and Work Responsibility Act (Pub. L. 105-276): Provides incentives to PHAs to design and test approaches for providing and administering housing assistance that save money, give incentives to families with children to become economically self-sufficient, and increase housing choices for low-income families; also provides training and technical assistance to identify replicable program models.

39. Demolition and Revitalization of Severely Distressed Public Housing (HOPE VI), appropriations acts for Fiscal Year 1993 through 1999; and Section 24 of the United States Housing Act of 1937, as amended by Section 535 of the Quality Housing and Work Responsibility Act of 1998 (42 U.S.C. 1437v): Provides competitive grants to PHAs to eradicate severely distressed public housing through demolition, major reconstruction, rehabilitation, and other physical improvements; the provision of replacement housing; management improvements; planning and technical assistance; and the provision of supportive services.

40. Public Housing Homeownership—Section 32, Section 32 of the United States Housing Act of 1937 (42 U.S.C. 1437z-4), 24 CFR part 906: Sells public housing units to low-income families.

41. Resident Opportunity and Self Sufficiency (ROSS), Section 34 of the United States Housing Act of 1937 (42 U.S.C. 1437z-6), as amended by Section 221 of the Fiscal Year 2001 Appropriations Act: Provides grants to PHAs for supportive services and resident empowerment activities.

42. Family Self-Sufficiency Program, Section 23 of the United States Housing Act of 1937 (42 U.SA.C. 1437u), 24 CFR 984: Promotes the development of local strategies to coordinate the use of public housing and Housing Choice Voucher program assistance with public and private resources to enable eligible families to achieve economic independence and self-sufficiency.

43. Indian Community Development Block Grant (ICDBG) Program, Title I of the Housing and Community Development Act of 1974 (42 U.S.C. 5301 et seq.), 24 CFR part 1003: Provides block grants for Indian tribes and Alaska Native Villages to develop viable Native American communities. Title VI of the Civil Rights Act of 1964 (42 U.S.C. 2000d) applies only to applicants and subrecipients of block grants that are not federally recognized Indian tribes or their instrumentalities. Federally recognized Indian tribes and their instrumentalities are subject to the requirements of Title II of the Civil Rights Act of 1964, known as the Indian Civil Rights Act; the prohibitions in Section 109 against discrimination based on age, sex, religion, and disability; the Age Discrimination Act of 1975; and Section 504 of the Rehabilitation Act of 1973.

44. Indian Housing Block Grant (IHBG) Program, Titles I through IV of the Native American Housing Assistance and Self-Determination Act of 1996 (NAHASDA) (25 U.S.C. 4101 et seq.), 24 CFR part 1000: Provides annual housing single block grants to eligible Indian tribes or their tribally designated housing entities (TDHEs). Title VI of the Civil Rights Act of 1964 (42 U.S.C. 2000d) applies only to applicants and subrecipients of the block grants that are not federally recognized Indian tribes or their instrumentalities. Federally recognized Indian tribes and their instrumentalities are subject to the requirements of Title II of the Civil Rights Act of 1964, known as the Indian Civil Rights Act; the prohibitions in Section 109 against discrimination based on age, sex, religion, and disability; the Age Discrimination Act of 1975; and Section 504 of the Rehabilitation Act of 1973.

45. Native Hawaiian Housing Block Grant (NHHBG) Program, Title VIII of NAHASDA (25 U.S.C. 4221 et seq.), 24 CFR part 1006: Provides annual block grants to the Department of Hawaiian Home Lands to address the housing needs of Native Hawaiians.

46. Hope VI Main Street: Section 24 of the United States Housing Act of 1937, as amended by Section 535 of the Quality Housing and Work Responsibility Act of 1998, as amended by the HOPE VI program Reauthorization and Small Community Main Street Rejuvenation and Housing Act of 2003: Provides grants to small communities to assist in the rehabilitation and new construction of affordable housing in conjunction with an existing program to revitalize an historic or traditional central business district or main street area.

Fair Housing and Equal Opportunity

47. Fair Housing Assistance Program (FHAP), Fair Housing Act (42 U.S.C. 3601 et seq.)—Regulations at 24 CFR part 115: Provides funding to state and local public agencies that administer fair housing laws certified by the Secretary to be “substantially equivalent” to the federal Fair Housing Act. Funding is for complaint processing, training, technical assistance, data and information systems, and other fair housing-related activities.

48. Fair Housing Initiatives Program (FHIP), Section 561, Housing and Community Development Act of 1987 (42 U.S.C. 3616(a)), 24 CFR part 125: Provides funding to private nonprofit and for-profit fair housing organizations and Fair Housing Assistance Program (FHAP) agencies for carrying out educational and enforcement programs to prevent or eliminate discriminatory housing practices.

Policy Development and Research

49. Doctoral Research Grant Programs, Title V of the Housing and Urban Development Act of 1970 (12 U.S.C. 1701z-1 et seq.): Provides competitive grants to Ph.D. candidates to enable them to complete their dissertations, to Ph.D. students early in their studies to complete research projects, and to Ph.D.s early in their academic careers to undertake research on issues related to HUD's priorities.

50. Bridges to Work, Supportive services program authorized under the CDBG heading in the Fiscal Year 1996 appropriations act (Pub. L. 104-134): Provides grants to link low-income, inner-city residents with suburban jobs by providing job placement, transportation, and supportive services, such as child care and counseling.

51. Research on Socioeconomic Change in Cities: Provides grants to academic institutions, nonprofit organizations, and municipalities for research dealing with trends in urban areas, including social, economic, demographic, and fiscal changes.

52. Community Outreach Partnership Program (COPC), Section 107, Housing and Community Development Act of 1974 (42 U.S.C. 5307), 24 CFR part 570: Provides grants to establish or implement outreach and applied research activities that address problems of urban areas and encourages structural change, both within institutions of higher education and in the way institutions relate to their neighbors.

53. Historically Black Colleges and Universities Program (HBCU), Section 107, Housing and Community Development Act of 1974 (42 U.S.C. 5307), 24 CFR part 570: Provides grants to HBCUs to expand their role and effectiveness in addressing community development needs in their localities, including neighborhood revitalization, housing, and economic development, principally for persons of low and moderate income.

54. Hispanic-Serving Institutions Assisting Communities Program (HSIAC), annual HUD appropriation act: Provides grants to assist Hispanic serving institutions in expanding their role and effectiveness in addressing community development needs in their localities, including neighborhood revitalization, housing, and economic development.

55. Alaska Native/Native Hawaiian Institutions Assisting Communities Program (AN/NHIAC), annual HUD appropriation act: Provides grants to Alaska Native/Native Hawaiian Institutions of higher education to expand their role and effectiveness in addressing community development needs in their localities, including neighborhood revitalization, housing, and economic development, principally for persons of low and moderate income.

56. Tribal Colleges and Universities Program (TCUP), annual HUD appropriation act: Provides grants to tribal colleges and universities to build, expand, renovate, and equip their own facilities. Title VI applies only to tribal colleges and universities that are not a part of nor an instrumentality of a tribe.

57. Partnership for Advancing Technologies in Housing Initiative (PATH), Title V of the Housing and Urban Development Act of 1970 (12 U.S.C. 1701z-1 et seq.): The goal of this initiative is to identify techniques for building more affordable, durable, disaster resistant, safe, and energy efficient housing.

Healthy Homes and Lead Hazard Control

58. Lead-Based Paint Hazard Grant Control Program, Section 1011 of the Residential Lead-Based Paint Hazard Reduction Act of 1992 (Title X of the Housing and Community Development Act of 1992, 42 U.S.C. 4852): Provides grants to state and local governments and federally recognized Native American tribes to evaluate and reduce lead-based paint hazards in privately owned, low-income housing and to nonprofit and for-profit entities to leverage private sector resources to eliminate lead poisoning as a major public health threat to children.

59. Lead Technical Studies, Section 1051 and 1052 of the Residential Lead-Based Paint Hazard Reduction Act of 1992 (Title X of the Housing and Community Development Act of 1992, 42 U.S.C. 4854 and 4554a): Funds research by nonprofit and for-profit institutions, state and units of local general government, and federally recognized Native American tribes to find improved methods for detecting and controlling residential lead-based paint hazards.

60. Healthy Homes Demonstration Program, Sections 501 and 502 of the Housing and Urban Development Act of 1970 (12 U.S.C. 1701z-1 and 1701z-2): Provides grants to state and local governments, federally recognized Native American tribes, and nonprofit and for-profit institutions to develop, demonstrate, and promote cost-effective, preventive measures to correct multiple safety and health hazards.

61. Operation Lead Elimination Action Program (LEAP), Section 1011 of the Residential Lead-Based Paint Hazard Reduction Act of 1992 (Title X of the Housing and Community Development Act of 1992, 42 U.S.C. 4852): Provides grants to nonprofit and for-profit organizations and universities that can leverage HUD funds with private resources and that will reallocate resources to other entities to eliminate lead in residential buildings, especially in low-income housing that is privately owned or owner-occupied.

62. Lead Outreach Grant Program, Sections 1011 of the Residential Lead-Based Paint Hazard Reduction Act of 1992 (Title X of the Housing and Community Development Act of 1992, 42 U.S.C. 4842): Provides funding to nonprofit and for-profit organizations, state and local governments, and federally recognized Native American tribes to develop and distribute outreach and educational materials.

63. Healthy Homes Technical Studies, Sections 501 and 502 of the Housing and Urban Development Act of 1970 (12 U.S.C. 1701z-1 and 1701z-2): Funds research by nonprofit and for-profit organizations, state and local governments, and federally recognized Native American tribes to find improved methods for detecting and controlling lead-based paint and other residential health and safety hazards.

64. Lead Hazard Reduction Demonstration Grant Program, Section 1011 of the Residential Lead-Based Paint Hazard Reduction Act of 1992 (Title X of the Housing and Community Development Act of 1992, Pub. L.102-550): Assist states and local governments in undertaking programs for the identification and control of lead-based paint hazards in eligible privately owned rental and owner-occupied housing units in urban jurisdictions with the highest lead-based paint hazard control needs.

Inactive HUD Programs (Programs With No New Funding, But That May Still Fund Previous Contracts)

65. Rent Supplements: Provided federal payments to reduce rents for certain low-income persons. New rent supplement contracts are no longer available.

66. Congregate Housing Services: Provided federal grants to eligible housing projects for the elderly and disabled. No activity in recent years except to extend previously funded grants.

67. HOPE 2 Homeownership of Multifamily Units: Provided grants to assist in developing and carrying out homeownership programs for low-income families and individuals through the use of multifamily rental properties. No new commitments are being made.

68. HOPE for Homeownership of Single Family Homes (HOPE 3) Program: Provided grants to assist in developing and carrying out homeownership programs for low-income families and individuals through the rehabilitation of existing single-family homes. No new commitments since 1995.

69. Emergency Low-Income Housing Preservation Title II) (except for FHA-mortgage insurance): Addressed the preservation of Section 221(d)(3) and Section 236 projects whose low-income use restrictions could otherwise expire 20 years after the final mortgage endorsement. No new commitments are being made.

70. Low-Income Housing Preservation and Resident Homeownership (Title VI) (except for FHA-mortgage insurance): Addressed the preservation of Section 221(d)(3) and Section 236 projects whose low-income use restrictions could otherwise expire 20 years after the final mortgage endorsement. No new commitments are being made.

71. Flexible Subsidy (Section 201): Provided federal aid for troubled multifamily housing projects, as well as capital improvement funds for both troubled and stable subsidized projects. No new commitments are being made.

72. Direct Loans for Housing for the Elderly or Handicapped (Section 202): Provided housing and related facilities for the elderly or handicapped. This program was replaced in Fiscal Year 1999 by the Supportive Housing for the Elderly Program (Section 202 Capital Advances) and Housing for Persons with Disabilities (Section 811).

73. Section 8 Moderate Rehabilitation Program: Assisted low-income families in obtaining decent, safe, and sanitary housing in privately owned, rehabilitated buildings. Funding is no longer available for new commitments beyond renewing expiring contracts.

74. Homeownership and Opportunity for People Everywhere (HOPE I): Made available grants to provide affordable homeownership to the residents of public housing. No funding has been appropriated since Fiscal Year 1995.

75. Public and Indian Housing Drug Elimination Program: Grants to fund drug elimination activities in public, assisted, and Indian housing.

Environmental Impact.

The Notice involves a policy document that sets out nondiscrimination standards. Accordingly, under 24 CFR 50.19(c)(3), this notice is categorically excluded from environmental review under the National Environmental Policy Act (42 U.S.C. 4321 et seq.).

Dated: July 20, 2006.
Kim Kendrick,
Assistant Secretary for Fair Housing and Equal Opportunity.

[FR Doc. 06-6516 Filed 7-27-06; 8:45 am]

BILLING CODE 4210-67-P